DEPARTMENT OF HOUSING AND URBAN DEVELOPMENT

[Docket No. FR-5681-N-31]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, Room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Brenda Carignan, Department of Agriculture, Reporters Building, 300 7th Street SW., Room 337, Washington, DC 20024, (202)-401-0787; Coast Guard: Commandant, United States Coast Guard, Attn: Jennifer Stomber, 2100 Second St. SW., Stop 7901, Washington, DC 20593-0001; (202) 475-5609; COE: Mr. Scott Whiteford, Army Corps of Engineers, Real Estate, CEMP-CR, 441 G Street NW., Washington, DC 20314; (202) 761-5542; GSA: Mr. Flavio Peres, General Services Administration, Office of Real Property Utilization and Disposal, 1800 F Street NW., Room 7040 Washington, DC 20405, (202) 501-0084; NASA: Mr. Frank T. Bellinger, Facilities Engineering Division, National Aeronautics & Space Administration, Code JX, Washington, DC 20546, (202)-358-1124; Navy: Mr. Steve Matteo, Department of the Navy, Asset Management Division, Naval Facilities Engineering Command, Washington Navy Yard, 1330 Patterson Ave. SW., Suite 1000, Washington, DC 20374; (202) 685-9426. (These are not toll-free numbers).

Dated: July 25, 2013.
Mark Johnston,
Deputy Assistant Secretary for Special Needs.

TITLE V, FEDERAL SURPLUS PROPERTY PROGRAM FEDERAL REGISTER REPORT FOR 08/02/2013

Suitable/Available Properties

Building

Alabama

Anniston SSA Building

301 E. 13th St.

Anniston AL 36207

Landholding Agency: GSA

Property Number: 54201330002

Status: Excess

GSA Number: 4-G-AL-0790AA

Comments: 12,257 sf.; 11,927 rentable sf.; 59 parking spaces; office; 9+ months vacant; good conditions; Contact GSA for more info.

California

Upper Lake District Office

Bldg. #2004

10025 Elk Mountain Rd.

Upper Lake CA 95485

Landholding Agency: Agriculture

Property Number: 15201330011

Status: Excess

Comments: Off-site removal only; 1,959 sf.; office; poor conditions; asbestos, fluorescent lighting; Contact Agriculture for more info.

Building 1007

10025 Elk Mountain Rd.

Upper Lake CA 95485

Landholding Agency: Agriculture

Property Number: 15201330012

Status: Excess

Comments: Off-site removal only; 1,677 sf.; office; poor conditions; lead, asbestos and fluorescent lights; contact Agriculture for more info.

Colorado

John Martin Project Office

29955 County Rd.

Hasty CO 81044

Landholding Agency: COE

Property Number: 31201330001

Status: Unutilized

Comments: Off-site removal only; no future agency need; 17 yrs.-old; comfort station; 13′3″ x 0′ x 13′3″

John Martin Project Office

29955 County Rd.

Hasty CO 81044

Landholding Agency: COE

Property Number: 31201330002

Status: Unutilized

Comments: Off-site removal only; no future agency use; 62 yrs. old; 21′ x 0′ x 23′ for each

John Martin Project Office

29955 County Rd.

Hasty CO 81044

Landholding Agency: COE

Property Number: 31201330003

Status: Unutilized

Comments: Off-site removal only; no future agency use; 33 yrs. old; vault-type comfort station; 75″ x 75″ x 75″

Montana

Double Arrow Radio Bldg. #1246

Lolo Nat'l Forest

Seeley Ranger District MT

Landholding Agency: Agriculture

Property Number: 15201330013

Status: Excess

Comments: Off-site removal only; removal may be very difficult due to structure type; 80 sf.; shed; damage due to snow; contact Agriculture for more info.

Land

Florida

Two Residential Zoned Lots

4017 7th St. SW

Lehigh Acres FL 33976

Landholding Agency: COE

Property Number: 31201330004

Status: Unutilized

Comments: .05 acres lots; contact COE for more info.

New York

Radio Communication Link

Repeater Site

5979 Wagner Hill Rd.

Wheeler NY 14809

Landholding Agency: GSA

Property Number: 54201330004

Status: Excess

GSA Number: 1-NY-0981-AA

Directions: Landholding Agency: FAA; Disposal Agency: GSA

Comments: 7.473 acres; Contact GSA for more info.

Unsuitable Properties

Building

Florida

3 Buildings

Kennedy Space Center

KSC FL 32899

Landholding Agency: NASA

Property Number: 71201330009

Status: Unutilized

Directions: Modular Office Bldg.; Silver Recovery Bldg.; Sandblast Paint Fac.

Comments: Public access denied and no alternative method to gain access w/out compromising nat'l security

Reasons: Secured Area

4 Buildings

Kennedy Space Center

KSC FL 32899

Landholding Agency: NASA

Property Number: 71201330010

Status: Unutilized

Directions: Temp. Bldg.; Sewage Treatment Plant #15; Microwave Tower; Waste Water Treatment Fac.

Comments: Public access denied & no alternative method to gain access w/out compromising nat'l security

Reasons: Secured Area

7 Buildings

Kennedy Space Center

KSC FL 32899

Landholding Agency: NASA

Property Number: 71201330011

Status: Unutilized

Directions: Foam Bldg.; Electrical Equipment Bldg. #3; Electrical Equipment #4; Hypergol Oxidizer Fac.; Storage Bldg.; Hypergol Fuel Fac.; Storage Bldg.

Comments: Public access denied and no alternative w/out compromising nat'l security

Reasons: Secured Area

3 Buildings

Kennedy Space Center

KSC FL 32899

Landholding Agency: NASA

Property Number: 71201330012

Status: Unutilized

Directions: SLF Optical Tracker Site B; SLF Optical Tracker Site E; Temp. Bldg.

Comments: Public access denied & no alternative method to gain access w/out compromising nat'l security

Reasons: Secured Area

7 Buildings

Hanger Rd.

CCAFS FL 32925

Landholding Agency: NASA

Property Number: 71201330013

Status: Unutilized

Directions: POL; POL Fac. Hanger AF; Hazardous Water Staging Shelter; Hazardous Water Staging Fac.; First Wash Bldg.; Thrust Vector Control Deserving Bldg.; Robot Wash Bldg.

Comments: Public access denied & no alternative method to gain access w/out compromising nat'l security

Reasons: Secured Area

Helium Bottle Shed

77602 Samuel C. Phillip Pkwy.

CCAFS FL 32899

Landholding Agency: NASA

Property Number: 71201330014

Status: Unutilized

Comments: Public access denied & no alternative method to gain access w/out compromising nat'l security

Reasons: Secured Area

Hazardous Waste

Staging Shelter

KSC FL 32899

Landholding Agency: NASA

Property Number: 71201330015

Status: Unutilized

Comments: Public access denied and no alternative method to gain access w/out compromising nat'l security

Reasons: Secured Area

Hypergol Module Processing, North

M7-0961 5th St.

KSC FL 32899

Landholding Agency: NASA

Property Number: 71201330016

Status: Unutilized

Comments: Public access denied and no alternative method to gain access w/out compromising nat'l security

Reasons: Secured Area

Hypergol Support Bldg.

M7-1061 6th St.

KSC FL 32899

Landholding Agency: NASA

Property Number: 71201330017

Status: Unutilized

Comments: Public access denied & no alternative method to gain access w/out compromising nat'l security

Reasons: Secured Area

3 Buildings

6th St. SE

KSC FL 32899

Landholding Agency: NASA

Property Number: 71201330018

Status: Unutilized

Directions: GHe and GH2 Storage; Heating Plant

Comments: Public access denied and no alternative method to gain access w/out compromising nat'l security

Reasons: Secured Area

Illinois

Rend Lake Project Office

11981 Rend City Rd.

Benton IL 62812

Landholding Agency: COE

Property Number: 31201330005

Status: Unutilized

Comments: Public access denied and no alternative method to gain access w/out compromising nat'l security

Reasons: Secured Area

Maryland

Shed (O17) [14765]

2401 Hawkins Point Rd.

Baltimore MD 21226

Landholding Agency: Coast Guard

Property Number: 88201330001

Status: Excess

Comments: Public access denied and no alternative method to gain access w/out compromising Nat'l security

Reasons: Secured Area

Texas

Admin. Support Facility Annex

(Bldg. 225)

NASA Johnson Space Ctr.

Houston TX 77058

Landholding Agency: NASA

Property Number: 71201330019

Status: Unutilized

Comments: Public access denied and no alternative method to gain access w/out compromising nat'l security

Reasons: Secured Area

Admin. Support Facility

(Bldg. 226)

2101 NASA Pkwy.

Houston TX 77058

Landholding Agency: NASA

Property Number: 71201330020

Status: Unutilized

Comments: Public access denied & no alternative method to gain access w/out compromising nat'l security

Reasons: Secured Area

Vermont

Meyers Building

517 Welcome Center Rd.

Highgate Springs VT 05460

Landholding Agency: GSA

Property Number: 54201330006

Status: Excess

GSA Number: VT00006S

Comments: Documented Deficiencies: Severe structural damage; bldg. has significant (large) cracks in the foundation and masonry trim; threat to personal safety

Reasons: Extensive deterioration

Land

Maryland

Various Agricultural Fields

Naval Air Station Patuxent River

Patuxent/Webster MD

Landholding Agency: Navy

Property Number: 77201330007

Status: Underutilized

Directions: 132 acres at Webster Field Annex located in St. Indigoes and 414 acres located at NAS Patuxent River

Comments: Public access denied & no alternative method to gain access w/out compromising nat'l security

Reasons: Secured Area

[FR Doc. 2013-18301 Filed 8-1-13; 8:45 am]

BILLING CODE P